DEPARTMENT OF COMMERCE

Foreign-Trade Zones Board

[S-59-2015]

Foreign-Trade Zone 154—Baton Rouge, Louisiana; Application for Subzone; Syngenta Crop Protection LLC, St. Gabriel and Baton Rouge, Louisiana

An application has been submitted to the Foreign-Trade Zones (FTZ) Board by the Greater Baton Rouge Port Commission, grantee of FTZ 154, requesting subzone status for the facilities of Syngenta Crop Protection LLC located in St. Gabriel and Baton Rouge, Louisiana. The application was submitted pursuant to the provisions of the Foreign-Trade Zones Act, as amended (19 U.S.C. 81a-81u), and the regulations of the FTZ Board (15 CFR part 400). It was formally docketed on April 27, 2015.

The proposed subzone would consist of the following sites: Site 1 (300 acres)—St. Gabriel Plant, 3905 Highway 75, St. Gabriel; Site 2 (9.6 acres)—Ace Warehouse, 1849 River Road South, Baton Rouge; Site 3 (1 acre)—Ace Warehouse, 125 S. 14th Street, Baton Rouge; and, Site 4 (4.15 acres)—Baton Rouge Warehouse, 1565 River Road South, Baton Rouge. The proposed subzone would be subject to the existing activation limit of FTZ 154. A notification of proposed production activity has been submitted and will be published separately for public comment.

In accordance with the FTZ Board's regulations, Camille Evans of the FTZ Staff is designated examiner to review the application and make recommendations to the Executive Secretary.

Public comment is invited from interested parties. Submissions shall be addressed to the FTZ Board's Executive Secretary at the address below. The closing period for their receipt is June 10, 2015. Rebuttal comments in response to material submitted during the foregoing period may be submitted during the subsequent 15-day period to June 25, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: April 27, 2015.
Andrew McGilvray,
Executive Secretary.

[FR Doc. 2015-10254 Filed 4-30-15; 8:45 am]

BILLING CODE 3510-DS-P